NATIONAL SCIENCE FOUNDATION

Notice of the Availability of Finding of No Significant Impact for a Marine Geophysical Survey in the Arctic Ocean

AGENCY: National Science Foundation.

ACTION: Notice of availability of a Finding of No Significant Impact for proposed activities in the Arctic Ocean.

SUMMARY: The National Science Foundation gives notice of the availability of a Finding of No Significant Impact for proposed activities in the Arctic Ocean.

The Office of Polar Programs (OPP) has prepared an Environmental Assessment of a marine geophysical study by the Coast Guard cutter Healy in the western Canada Basin, Chukchi Borderland and Mendeleev Ridge, July-August-September 2006. Given the United States Arctic Program's mission to support polar research, the proposed action is expected to result in substantial benefits to science.

ADDRESSES: Copies of the Finding of No Significant Impact and the Environmental Assessment are available upon request from: Dr. Polly A. Penhale, National Science Foundation, Office of Polar Programs, 4201 Wilson Blvd., Suite 755, Arlington, VA 22230. Telephone: (703) 292-8033.

SUPPLEMENTARY INFORMATION: The National Science Foundation prepared a draft Environmental Impact Assessment (EA) for a marine geophysical survey in the western Canada Basin, Chukchi Borderland and Mendeleev Ridge and solicited public comments (Federal Register: March 8, 2006, Vol. 71, No. 45, Page 11681). The National Science Foundation has prepared a Finding of No Significant Impact (FONSI) based on this EA, in accordance with CEQ regulations § 1500-1508 and 45 CFR part 640. It was determined that the proposed activity would not result in a significant impact on the quality of the human environment within the meaning of the National Environmental Policy Act (NEPA) of 1969. Therefore, a FONSI was issued, and no environmental impact statement is required.

Copies of the FONSI and the Environmental Assessment entitled, Environmental Assessment of a Marine Geophysical Survey by the USCG Healy of the Western Canada Basin, Chukchi Borderland and Mendeleev Ridge, Arctic Ocean, July-August 2006, are available upon request from: Dr. Polly A. Penhale, National Science Foundation, Office of Polar Programs, 4201 Wilson Blvd., Suite 755, Arlington, VA 22230. Telephone: (703) 292-8033.

Polly A. Penhale,
Environmental Officer, Office of Polar Programs, National Science Foundation.

[FR Doc. 06-6274 Filed 7-17-05; 8:45 am]

BILLING CODE 7555-01-M